COMMISSION ON CIVIL RIGHTS

Sunshine Act Meeting

AGENCY: U.S. Commission on Civil Rights.

DATE AND TIME: Friday, May 4, 2001, 9:30 a.m.

PLACE: U.S. Commission on Civil Rights, 624 Ninth Street, NW., Room 540, Washington, DC 20425.

STATUS:

Agenda

I. Approval of Agenda

II. Approval of Minutes of April 13, 2001 Meeting

III. Announcements

IV. Staff Director's Report

V. State Advisory Committee Report

• Race Relations and Des Moines' New Immigrants (Iowa)

• Equal Educational Opportunity for Native American Students in Montana Public Schools (Montana)

VI. Future Agenda Items

CONTACT PERSON FOR FURTHER INFORMATION: David Aronson, Press and Communications (202) 376-8312.

Edward A. Hailes, Jr.,
General Counsel.

[FR Doc. 01-10753 Filed 4-25-01; 4:57 pm]

BILLING CODE 6335-01-M